DEPARTMENT OF ENERGY

Federal Energy Regulatory Commission

[Docket No. RP96-272-021]

Northern Natural Gas Company; Notice of Compliance Filing

December 21, 2000.

Take notice that on December 15, 2000, Northern Natural Gas Company (Northern), tendered for filing in its FERC Gas Tariff, Fifth Revised Volume No. 1, the following tariff sheet proposed to be effective November 1, 2000:

Substitute Eleventh Revised Sheet No. 66

Northern states that the purpose of this filing is to comply with the Commission's Order issued on November 30, 2000 in Docket No. RP96-272-019. Northern is filing the revised tariff sheet to specify separately the components of the negotiated rate between the transmission component and the construction cost reimbursement component in Footnote 7 which details the negotiated rate agreement with Midwest Natural Gas, Inc.

Northern further states that copies of the filing have been mailed to each of its customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-33102 Filed 12-27-00; 8:45 am]

BILLING CODE 6717-01-M